ELECTION ASSISTANCE COMMISSION

Federal Advisory Committee Act; Board of Advisors Charter Renewal

AGENCY: U.S. Election Assistance Commission.

ACTION: Notice of charter renewal.

SUMMARY: In accordance with the Federal Advisory Committee Act (Pub. L. 92-463), the purpose of this notice is to announce that the U.S. Election Assistance Commission (EAC) has renewed the charter for the Board of Advisors for a two-year period through December 19, 2010. The Board of Advisors is a federal advisory committee under the Federal Advisory Committee Act.

DATES: Renewed through December 19, 2010.

ADDRESSES: U.S. Election Assistance Commission, 1225 New York Avenue, NW., Suite 1100, Washington, DC 20005.

FOR FURTHER INFORMATION CONTACT: Gracia M. Hillman, Designated Federal Officer, at (202) 566-3100. E-mail: havainfo@eac.gov.

SUPPLEMENTARY INFORMATION: The Board of Advisors is a Federal advisory committee created by statute whose mission is to advise the EAC through review of the voluntary voting systems guidelines; through review of voluntary guidance; and review of best practices recommendations. In accordance with the Federal Advisory Committee Act, Public Law 92-463, as amended, this notice advises interested persons of the renewal of the Board of Advisors charter.

Alice Miller,
Chief Operations Officer, U.S. Election Assistance Commission.

Charter of the U.S. Election Assistance Commission Board of Advisors

The U.S. Election Assistance Commission (EAC) hereby charters the Board of Advisors established in Title II Section 211 of the Help America Vote Act of 2002 (HAVA) [Pub. L. 107-252] pursuant to the Federal Advisory Committee Act.

Objectives and Duties

1. The objective of the Board of Advisors (the Board) is to advise the EAC through review of the voluntary voting systems guidelines described in Title II Part 3 of HAVA; through review of the voluntary guidance described under Title III of HAVA; and through the review of the best practices recommendations contained in the report submitted under Section 242(b) of Title II (HAVA Title II Section 212).

2. The Board will function solely as an advisory body and will comply fully with the provisions of the Federal Advisory Committee Act.

Membership

1. The Board shall consist of the following:

—Two members appointed by the National Governors Association.

—Two members appointed by the National Conference of State Legislatures.

—Two members appointed by the National Association of Secretaries of State.

—Two members appointed by the National Association of State Election Directors.

—Two members appointed by the National Association of Counties.

—Two members appointed by the National Association of County Recorders, Election Administrators and Clerks.

—Two members appointed by the United States Conference of Mayors.

—Two members appointed by the Election Center.

—Two members appointed by the International Association of County Recorders, Election Officials and Treasurers.

—Two members appointed by the United States Commission on Civil Rights.

—Two members appointed by the Architectural and Transportation Barrier Compliance Board under Section 502 of the Rehabilitation Act of 1973 (29 U.S.C. 792).

—The Chief of the Office of Public Integrity of the Department of Justice, or the Chief's designee.

—The Chief of the Voting Rights Section of the Civil Rights Division of the Department of Justice or the Chief's designee.

—The Director of the Federal Voting Assistance Program of the Department of Defense.

—Four members representing professionals in the field of science and technology, of whom—

(A) One each shall be appointed by the Speaker and the Minority Leaders of the House of Representatives; and

(B) One each shall be appointed by the Majority Leader and the Minority Leader of the Senate.

—Eight members representing voter interests, of whom—

(A) Four members shall be appointed by the Committee on House Administration of the House of Representatives, of whom two shall be appointed by the Chair and two shall be appointed by the Ranking Member; and

(B) Four members shall be appointed by the Committee on Rules and Administration of the Senate, of whom two shall be appointed by the Chair and two shall be appointed by the Ranking Minority Member. (HAVA Title II, Section 214(a))

2. Vacancy appointments shall be made in the same manner as the original appointments.

3. Members of the Board shall serve for a term of 2 years and may be reappointed.

4. The Board shall elect a Chair from among its members.

Administrative Provisions

1. The Board will report to the EAC through the Advisory Committee Management Officer pursuant to 5 U.S.C. App. 1, Section 8(b). This officer shall be an EAC Commissioner designated by the Chairman of the EAC.

2. The Board will meet a minimum of once a year for purposes of voting on the voluntary voting system guidelines. Additional meetings may be called at such other times as it considers appropriate for the purposes of conducting other business as it considers appropriate consistent with Title II of HAVA. (HAVA Title II, Section 215(a)(2)).

3. The EAC will provide clerical and other necessary support services to the Board. (HAVA Title II, Section 215(d)).

4. Members of the Board will not be compensated for their services but will be reimbursed for travel expenses and subsistence. (HAVA Title II, Section 215(e)).

5. The Board may use the United States mails in the same manner and under the same conditions as a department or agency of the Federal Government. (HAVA Title II, Section 215(c)).

6. The annual cost for operating the Board is estimated at $100,000, which includes one quarter staff year for support services.

7. The Board may establish such committees of its members as may be necessary subject to the provisions of the law.

8. The Board may, by simple majority vote, adopt resolutions and make recommendations. Such resolutions and recommendations will, however, be only advisory to the EAC and will be restricted to the EAC's activities described in Title II, Section 212 of the Help America Vote Act of 2002.

9. The EAC will provide liaison services between the Board and the Advisory Panel Secretariat as required by the Federal Advisory Committee Act.

Duration

This is a permanent committee as established in Title II, Section 215(f) of the Help America Vote Act of 2002.

[FR Doc. E8-30912 Filed 12-29-08; 8:45 am]

BILLING CODE 6820-KF-P